ENVIRONMENTAL PROTECTION AGENCY

40 CFR Part 52

[EPA-R09-OAR-2022-0607; FRL-10024-03-R9]

Air Plan Approval; Arizona; Maricopa County Air Quality Department

AGENCY: Environmental Protection Agency (EPA).

ACTION: Final rule.

SUMMARY: The Environmental Protection Agency (EPA) is taking final action to approve revisions to the Maricopa County Air Quality Department (MCAQD or “County”) portions of the Arizona State Implementation Plan (SIP). These revisions concern the County's reasonably available control technology (RACT) demonstration for the aerospace coating category and negative declarations for the 2008 8-hour ozone National Ambient Air Quality Standards (NAAQS or “standards”) in the portion of the Phoenix-Mesa ozone nonattainment area regulated by the MCAQD, as well as a rule covering emissions of volatile organic compounds (VOCs) from surface coatings and industrial adhesives. We are also approving a local rule that regulates these emission sources under the Clean Air Act (CAA or “the Act”).

DATES: This rule is effective February 18, 2025.

ADDRESSES: The EPA has established a docket for this action under Docket ID No. EPA-R09-OAR-2022-0607. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Nicole Law, EPA Region IX, 75 Hawthorne St., San Francisco, CA 94105. By phone: (415) 947-4126 or by email at Law.Nicole@epa.gov.

SUPPLEMENTARY INFORMATION: Throughout this document, “we,” “us” and “our” refer to the EPA.

Table of Contents

I. Proposed Action and Interim Final Determination

II. Public Comments and EPA Responses

III. EPA Action

IV. Incorporation by Reference

V. Statutory and Executive Order Reviews

I. Proposed Action and Interim Final Determination

On August 4, 2022 (87 FR 47663), the EPA proposed to approve a RACT certification for Aerospace Manufacturing and Rework Operations, Rule 336 “Surface Coating Operations and Industrial Adhesive Application Processes,” and negative declarations for the 2008 8-hour ozone NAAQS. The following table lists the documents that were submitted by the Arizona Department of Environmental Quality (ADEQ) for incorporation into the Arizona SIP and were the subject of our August 4, 2022 proposed rulemaking action.

Local agency | Document | Adopted | Submitted
MCAQD | Maricopa County Reasonably Available Control Technology (RACT) Certification for Volatile Organic Compound (VOC) Emissions from Aerospace Manufacturing and Rework Operations In Maricopa County June 2021 | 06/23/21 | 06/30/21
MCAQD | Rule 336 Surface Coating Operations and Industrial Adhesive Application Processes | 09/01/21 | 09/17/21
MCAQD | Negative Declarations for Three Coating Categories Listed in the 2008 Control Techniques Guidelines for Miscellaneous Metal and Plastic Parts Coatings | 09/01/21 | 09/17/21

We proposed to approve the RACT certification, rule, and negative declarations because we determined that they comply with the relevant CAA requirements. Our proposed action contains more information on the RACT certification, rule, negative declarations, and our evaluation. On the same day, we also made an interim final determination (87 FR 47630) that the submittal from the ADEQ corrected SIP deficiencies from a previous submittal, allowing us to defer the imposition of sanctions resulting from our previous disapproval action concerning ozone nonattainment requirements.

II. Public Comments and EPA Responses

The EPA's proposed action provided a 30-day public comment period. During this period, we received no comments.

III. EPA Action

No comments were submitted. Therefore, as authorized in section 110(k)(3) of the Act, the EPA is fully approving the RACT certification, rule, and negative declarations into the Arizona SIP. The September 1, 2021 version of Rule 336 will replace the previously approved version of this rule in the SIP. This approval permanently stops sanctions and Federal implementation plan clocks started by our January 7, 2021 partial disapproval and partial conditional approval actions on portions of the MCAQD RACT SIP.¹

¹ 86 FR 971 (January 7, 2021).

IV. Incorporation by Reference

In this rule, the EPA is finalizing regulatory text that includes incorporation by reference. In accordance with requirements of 1 CFR 51.5, the EPA is finalizing the incorporation by reference of MCAQD Rule 336, “Surface Coating Operations and Industrial Adhesive Application Processes,” revised on September 1, 2021, which regulates VOC emissions from surface coating operations and industrial adhesive application processes. Therefore, these materials have been approved by the EPA for inclusion in the SIP, have been incorporated by reference by the EPA into that plan, are fully federally enforceable under sections 110 and 113 of the CAA as of the effective date of the final rulemaking of the EPA's approval, and will be incorporated by reference in the next update to the SIP compilation.² The EPA has made, and will continue to make, these documents available through https://www.regulations.gov and at the EPA Region IX Office (please contact the person identified in the FOR FURTHER INFORMATION CONTACT section of this preamble for more information).

² 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements Executive Order 12898 and defines EJ as, among other things, “the just treatment and meaningful involvement of all people, regardless of income, race, color, national origin, Tribal affiliation, or disability, in agency decision-making and other Federal activities that affect human health and the environment.”

The State did not evaluate EJ considerations as part of its SIP submittal; the CAA and applicable implementing regulations neither prohibit nor require such an evaluation. The EPA did not perform an EJ analysis and did not consider EJ in this action. Due to the nature of the action being taken here, this action is expected to have a neutral to positive impact on the air quality of the affected area. Consideration of EJ is not required as part of this action, and there is no information in the record inconsistent with the stated goal of Executive Orders 12898 and 14096 of achieving EJ for communities with EJ concerns.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by March 17, 2025. Filing a petition for reconsideration by the Administrator of this final rule does not affect the finality of this action for the purposes of judicial review, nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: December 30, 2024.
Martha Guzman Aceves,
Regional Administrator, Region IX.

For the reasons discussed in the preamble, the Environmental Protection Agency amends 40 CFR part 52 as follows:

PART 52—APPROVAL AND PROMULGATION OF IMPLEMENTATION PLANS

1. The authority citation for part 52 continues to read as follows:

Authority: 42 U.S.C. 7401 et seq.

Subpart D—Arizona

§ 52.119 [Amended]

2. In § 52.119, remove and reserve paragraph (c)(3).

3. In § 52.120:

a. In paragraph (c), table 4, under the table headings “Post-July 1998 Rule Codification” and “Regulation III—Control of Air Contaminants”, revise the entry for “Rule 336”; and

b. In paragraph (e), table 1, under the subheading “Part D Elements and Plans for the Metropolitan Phoenix and Tucson Areas”, and immediately after the entry for “Maricopa Association of Governments (MAG) 1987 Carbon Monoxide (CO) Plan for the Maricopa County Area, MAG CO Plan Commitments for Implementation, and Appendix A through E, Exhibit 4, Exhibit D”, revise the entry for “Analysis of Reasonably Available Control Technology for the 2008 8-Hour Ozone National Ambient Air Quality Standard (NAAQS) State Implementation Plan (RACT SIP)”.

The revisions read as follows:

§ 52.120 Identification of plan.

* * * * *

(c) * * *

Table 4 to Paragraph (c)—EPA-Approved Maricopa County Air Pollution Control Regulations
County citation | Title/subject | State effective date | EPA approval date | Additional explanation
* * * * * * *
Post-July 1998 Rule Codification
* * * * * * *
Regulation III—Control of Air Contaminants
* * * * * * *
Rule 336 | Surface Coating Operations and Industrial Adhesive Application Processes | 9/1/2021 | 1/16/2025, [INSERT FIRST PAGE OF FEDERAL REGISTER CITATION] | Submitted electronically on September 17, 2021, as an attachment to a letter dated September 17, 2021. The September 1, 2021 version of Rule 336 replaces the November 2, 2016 version that was conditionally approved on January 7, 2021.
* * * * * * *

* * * * *

(e) * * *

Table 1—EPA-Approved Non-Regulatory and Quasi-Regulatory Measures
[Excluding certain resolutions and statutes, which are listed in tables 2 and 3, respectively] ¹
Name of SIP provision | Applicable geographic or nonattainment area or title/subject | State submittal date | EPA approval date | Explanation
The State of Arizona Air Pollution Control Implementation Plan
* * * * * * *
Part D Elements and Plans for the Metropolitan Phoenix and Tucson Areas
* * * * * * *
Analysis of Reasonably Available Control Technology (RACT) for the 2008 8-Hour Ozone National Ambient Air Quality Standard (NAAQS) State Implementation Plan (SIP) | Maricopa County portion of Phoenix-Mesa nonattainment area for 2008 8-hour ozone NAAQS | June 22, 2017; Supplemented on September 17, 2021 | January 7, 2021, 86 FR 971; and 1/16/2025, [INSERT FIRST PAGE OF FEDERAL REGISTER CITATION] | Except for those portions approved on 2/26/2020. The RACT requirement for major sources of NOX was approved on February 7, 2023.
* * * * * * *
¹ Table 1 is divided into three parts: Clean Air Act Section 110(a)(2) State Implementation Plan Elements (excluding Part D Elements and Plans), Part D Elements and Plans (other than for the Metropolitan Phoenix or Tucson Areas), and Part D Elements and Plans for the Metropolitan Phoenix and Tucson Areas.

* * * * *

4. In § 52.122, revise paragraph (a)(3)(i) to read as follows:

§ 52.122 Negative declarations.

* * * * *

(a) * * *

(3) * * *

(i) The following negative declarations for the 2008 ozone NAAQS were adopted by the Maricopa County Air Quality Department.

EPA document No. | Title | Adopted: 05/24/2017 Submitted: 6/22/2017 SIP approved: 01/07/2021 | Adopted: 09/01/2021 Submitted: 09/17/2021 SIP approved: 1/16/2025
(A) EPA-450/2-77-008 | Surface Coating of Coils | X
(B) EPA-450/2-77-008 | Surface Coating of Paper | X
(C) EPA-450/2-77-008 | Surface Coating of Automobiles and Light-Duty Trucks | X
(D) EPA-450/2-77-025 | Refinery Vacuum Producing Systems, Wastewater Separators, and Process Unit Turnarounds | X
(E) EPA-450/2-77-032 | Surface Coating of Metal Furniture | X
(F) EPA-450/2-77-033 | Surface Coating of Insulation of Magnet Wire | X
(G) EPA-450/2-77-034 | Surface Coating of Large Appliances | X
(H) EPA-450/2-77-037 | Cutback Asphalt | X
(I) EPA-450/2-78-029 | Manufacture of Synthesized Pharmaceutical Products | X
(J) EPA-450/2-78-030 | Manufacture of Pneumatic Rubber Tires | X
(K) EPA-450/2-78-032 | Factory Surface Coating of Flat Wood Paneling | X
(L) EPA-450/2-78-036 | Leaks from Petroleum Refinery Equipment | X
(M) EPA-450/3-82-009 | Large Petroleum Dry Cleaners | X
(N) EPA-450/3-83-006 | Leaks from Synthetic Organic Chemical Polymer and Resin Manufacturing Equipment | X
(O) EPA-450/3-83-007 | Leaks from Natural Gas/Gasoline Processing Plants | X
(P) EPA-450/3-83-008 | Manufacture of High-Density Polyethylene, Polypropylene, and Polystyrene Resins | X
(Q) EPA-450/3-84-015 | Air Oxidation Processes in Synthetic Organic Chemical Manufacturing Industry | X
(R) EPA-450/4-91-031 | Reactor Processes and Distillation Operations in Synthetic Organic Chemical Manufacturing Industry | X
(S) EPA-453/R-94-032 | ACT Surface Coating at Shipbuilding and Ship Repair Facilities; Shipbuilding and Ship Repair Operations (Surface Coating), see the Federal Register of 08/27/1996 | X
(T) EPA-453/R-06-003 | Flexible Package Printing | X
(U) EPA-453/R-06-004 | Flat Wood Paneling Coatings | X
(V) EPA 453/R-07-003 | Paper, Film, and Foil Coatings | X
(W) EPA 453/R-07-004 | Large Appliance Coatings | X
(X) EPA 453/R-07-005 | Metal Furniture Coatings | X
(Y) EPA 453/R-08-003 | Miscellaneous Metal and Plastic Parts Coatings; Table 4—Automotive/Transportation and Business Machine Plastic Parts |  | X
(Z) EPA 453/R-08-003 | Miscellaneous Metal and Plastic Parts Coatings; Table 6—Motor Vehicle Materials |  | X
(AA) EPA 453/R-08-004 | Fiberglass Boat Manufacturing Materials | X
(BB) EPA 453/R-08-006 | Automobile and Light-Duty Truck Assembly Coatings | X
(CC) EPA 453/B16-001 | Oil and Natural Gas Industry | X

* * * * *

§ 52.124 [Amend]

5. In § 52.124, remove and reserve paragraph (b).

* * * * *

[FR Doc. 2024-31701 Filed 1-15-25; 8:45 am]

BILLING CODE 6560-50-P